DEPARTMENT OF TRANSPORTATION

Federal Aviation Administration

14 CFR Part 39

[Docket No. FAA-2013-0699; Directorate Identifier 2012-NM-198-AD; Amendment 39-17751; AD 2014-03-13]

RIN 2120-AA64

Airworthiness Directives; Fokker Services B.V. Airplanes

AGENCY: Federal Aviation Administration (FAA), Department of Transportation (DOT).

ACTION: Final rule.

SUMMARY: We are adopting a new airworthiness directive (AD) for certain Fokker Services B.V. Model F.28 Mark 0070 and 0100 airplanes. This AD was prompted by three reports of cracking in the rear pressure bulkhead (RPBH) web. This AD requires inspecting the RPBH web for cracking, and repairing if necessary. We are issuing this AD to detect and correct cracking of the RPBH web, which could result in in-flight decompression of the airplane and possible injury to the occupants.

DATES: This AD becomes effective April 1, 2014.

The Director of the Federal Register approved the incorporation by reference of certain publications listed in this AD as of April 1, 2014.

ADDRESSES: You may examine the AD on the Internet at http://www.regulations.gov/#!docketDetail;D=FAA-2013-0699; or in person at the U.S. Department of Transportation, Docket Operations, M-30, West Building Ground Floor, Room W12-140, 1200 New Jersey Avenue SE., Washington, DC.

For service information identified in this AD, contact Fokker Services B.V., Technical Services Dept., P.O. Box 1357, 2130 EL Hoofddorp, the Netherlands; telephone +31 (0)88-6280-350; fax +31 (0)88-6280-111; email technicalservices@fokker.com; Internet http://www.myfokkerfleet.com. You may view this referenced service information at the FAA, Transport Airplane Directorate, 1601 Lind Avenue SW., Renton, WA. For information on the availability of this material at the FAA, call 425-227-1221.

FOR FURTHER INFORMATION CONTACT: Tom Rodriguez, Aerospace Engineer, International Branch, ANM-116, Transport Airplane Directorate, FAA, 1601 Lind Avenue SW., Renton, WA 98057-3356; telephone (425) 227-1137; fax (425) 227-1149.

SUPPLEMENTARY INFORMATION:

Discussion

We issued a notice of proposed rulemaking (NPRM) to amend 14 CFR part 39 by adding an AD that would apply to certain Fokker Services B.V. Model F.28 Mark 0070 and 0100 airplanes. The NPRM published in the Federal Register on August 23, 2013 (78 FR 52465). The NPRM was prompted by three reports of cracking in the rear pressure bulkhead (RPBH) web. The NPRM proposed to require inspecting the RPBH web for cracking, and repairing if necessary. We are issuing this AD to detect and correct cracking of the RPBH web, which could result in in-flight decompression of the airplane and possible injury to the occupants.

The European Aviation Safety Agency (EASA), which is the Technical Agent for the Member States of the European Community, has issued EASA Airworthiness Directive 2012-0219, dated October 19, 2012 (referred to after this as the Mandatory Continuing Airworthiness Information, or “the MCAI”), to correct an unsafe condition for the specified products. The MCAI states:

Three reports have been received of a crack in the rear pressure bulkhead (RPBH) web, just below the horizontal beam XI between buttock lines BL425L and BL425R, in the centre web bay below the pressure relief valves.

This condition, if not detected and corrected, could result in an exponential crack growth rate, possibly leading to failure of the affected RPBH web, resulting in in-flight decompression of the aeroplane and possible injury to occupants.

A repetitive inspection requirement has been published in issue 10 of Fokker Services [Airworthiness Limitations Section] ALS Report SE-623 under task number 534106-00-05. The threshold to start this ALS-task is 30,000 [total] flight cycles (FC). However, it is known that many aeroplanes have already exceeded this threshold.

For the reasons described above, this [EASA] AD requires a one-time inspection [detailed visual or high frequency eddy current inspection] of the affected RPBH web for cracks and, depending on findings, accomplishment of a repair. The repair can also be applied at any time as a modification, thereby exempting the aeroplane from (further) repetitive ALS task 534106-00-05 inspections.

You may examine the MCAI in the AD docket on the Internet at http://www.regulations.gov/#!documentDetail;D=FAA-2013-0699-0002.

Comments

We gave the public the opportunity to participate in developing this AD. We received no comments on the NPRM (78 FR 52465, August 23, 2013) or on the determination of the cost to the public.

Conclusion

We reviewed the available data and determined that air safety and the public interest require adopting this AD as proposed except for minor editorial changes. We have determined that these minor changes:

• Are consistent with the intent that was proposed in the NPRM (78 FR 52465, August 23, 2013) for correcting the unsafe condition; and

• Do not add any additional burden upon the public than was already proposed in the NPRM (78 FR 52465, August 23, 2013).

Costs of Compliance

We estimate that this AD affects 4 airplanes of U.S. registry.

We estimate the following costs to comply with this AD:

Estimated Costs
Action | Labor cost | Parts cost | Cost per product | Cost on U.S. operators
Inspection | 5 work-hours X $85 per hour = $425 | $0 | $425 | $1,700

We estimate the following costs to do any necessary repairs that would be required based on the results of the inspection. We have no way of determining the number of aircraft that might need these repairs:

On-Condition Costs
Action | Labor cost | Parts cost | Cost per product
On-condition inspection and repair | 16 work-hours × $85 per hour = $1,360 | $0 | $1,360

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

Examining the AD Docket

You may examine the MCAI in the AD docket on the Internet at http://www.regulations.gov/#!docketDetail;D=FAA-2013-0699; or in person at the Docket Operations office between 9 a.m. and 5 p.m., Monday through Friday, except Federal holidays. The AD docket contains this AD, the MCAI, the regulatory evaluation, any comments received, and other information. The street address for the Docket Operations office (telephone (800) 647-5527) is in the ADDRESSES section.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2014-03-13 Fokker Services B.V.: Amendment 39-17751. Docket No. FAA-2013-0699; Directorate Identifier 2012-NM-198-AD.

(a) Effective Date

This airworthiness directive (AD) becomes effective April 1, 2014.

(b) Affected ADs

None.

(c) Applicability

This AD applies to Fokker Services B.V. Model F.28 Mark 0070 and 0100 airplanes, certificated in any category, as identified in Fokker Service Bulletin SBF100-53-120, dated May 15, 2012.

(d) Subject

Air Transport Association (ATA) of America Code 53, Fuselage.

(e) Reason

This AD was prompted by three reports of cracking in the rear pressure bulkhead (RPBH) web. We are issuing this AD to detect and correct cracking of the RPBH web, which could result in in-flight decompression of the airplane and possible injury to the occupants.

(f) Compliance

You are responsible for having the actions required by this AD performed within the compliance times specified, unless the actions have already been done.

(g) Inspection

Before the accumulation of 30,000 total flight cycles, or within 12 months after the effective date of this AD, whichever occurs later: Do the actions specified in paragraph (g)(1) or (g)(2) of this AD.

(1) Do a detailed inspection for cracking of the rear side of the RPBH web below beam XI between buttock line (BL) 425L and BL 425R, in accordance with PART 1 of the Accomplishment Instructions of Fokker Service Bulletin SBF100-53-120, dated May 15, 2012.

(2) Do a high frequency eddy current (HFEC) inspection for cracking of the forward side of the RPBH web below beam XI between BL 425L and BL 425R, in accordance with PART 2 of the Accomplishment Instructions of Fokker Service Bulletin SBF100-53-120, dated May 15, 2012.

Note 1 to paragraph (g) of this AD: Fokker Services All Operators Message AOF100.176, dated May 15, 2012; and AOF100.178, dated September 10, 2012; provide additional information concerning the subject addressed by this AD.

(h) On-Condition Inspection and Repair

(1) If any cracking is found during the inspections specified in paragraph (g)(1) or (g)(2) of this AD: Before further flight, repair the cracking, in accordance with the Accomplishment Instructions of Fokker Service Bulletin SBF100-53-121, dated May 15, 2012.

(2) For any airplane inspected as specified in paragraph (g)(1) of this AD and no cracking was found: Within 12 months after that inspection, do the HFEC inspection specified in PART 2 of the Accomplishment Instructions of Fokker Service Bulletin SBF100-53-120, dated May 15, 2012. If any cracking is found: Before further flight, repair the cracking, in accordance with the Accomplishment Instructions of Fokker Service Bulletin SBF100-53-121, dated May 15, 2012.

(i) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Tom Rodriguez, Aerospace Engineer, International Branch, ANM-116, Transport Airplane Directorate, FAA, 1601 Lind Avenue SW., Renton, WA 98057-3356; telephone (425) 227-1137; fax (425) 227-1149. Information may be emailed to: 9-ANM-116-AMOC-REQUESTS@faa.gov. Before using any approved AMOC, notify your appropriate principal inspector, or lacking a principal inspector, the manager of the local flight standards district office/certificate holding district office. The AMOC approval letter must specifically reference this AD.

(2) Airworthy Product: For any requirement in this AD to obtain corrective actions from a manufacturer or other source, use these actions if they are FAA-approved. Corrective actions are considered FAA-approved if they are approved by the State of Design Authority (or their delegated agent). You are required to assure the product is airworthy before it is returned to service.

(j) Related Information

Refer to Mandatory Continuing Airworthiness Information (MCAI) European Aviation Safety Agency (EASA) Airworthiness Directive 2012-0219, dated October 19, 2012, for related information. You may examine the MCAI in the AD docket on the Internet at http://www.regulations.gov/#!documentDetail;D=FAA-2013-0699-0002.

(k) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) Fokker Service Bulletin SBF100-53-120, dated May 15, 2012.

(ii) Fokker Service Bulletin SBF100-53-121, dated May 15, 2012.

(3) For service information identified in this AD, contact Fokker Services B.V., Technical Services Dept., P.O. Box 1357, 2130 EL Hoofddorp, the Netherlands; telephone +31 (0)88-6280-350; fax +31 (0)88-6280-111; email technicalservices@fokker.com; Internet http://www.myfokkerfleet.com.

(4) You may view this service information at the FAA, Transport Airplane Directorate, 1601 Lind Avenue SW., Renton, WA. For information on the availability of this material at the FAA, call 425-227-1221.

(5) You may view this service information that is incorporated by reference at the National Archives and Records Administration (NARA). For information on the availability of this material at NARA, call 202-741-6030, or go to: http://www.archives.gov/federal-register/cfr/ibr-locations.html.

Issued in Renton, Washington, on January 29, 2014.
John P. Piccola,
Acting Manager, Transport Airplane Directorate, Aircraft Certification Service.

[FR Doc. 2014-02782 Filed 2-24-14; 8:45 am]

BILLING CODE 4910-13-P